DEPARTMENT OF ENERGY

Federal Energy Regulatory Commission

[IC04-549B-000, FERC-549B]

Commission Information Collection Activities, Proposed Collection; Comment Request; Extension

March 26, 2004.

AGENCY: Federal Energy Regulatory Commission; DOE.

ACTION: Notice.

SUMMARY: In compliance with the requirements of section 3506(c)(2)(a) of the Paperwork Reduction Act of 1995, 44 U.S.C. 3506(c)(2)(A), the Federal Energy Regulatory Commission (Commission) is soliciting public comment on the specific aspects of the information collection described below.

DATES: Comments on the collection of information are due by June 1, 2004.

ADDRESSES: Copies of the proposed collection of information can be obtained from Michael Miller, Office of the Executive Director, ED-30, 888 First Street NE., Washington, DC 20426. Comments may be filed either in paper format or electronically. Those persons filing electronically do not need to make a paper filing. For paper filings, the original and 14 copies of such comments should be submitted to the Office of the Secretary, Federal Energy Regulatory Commission, 888 First Street, NE., Washington, DC 20426 and should refer to Docket No. IC04-549B-000.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's e-mail address upon receipt of comments. User assistance for electronic filings is available at 202-502-8258 or by e-mail to efiling@ferc.gov. Comments should not be submitted to the e-mail address.

All comments are available for review at the Commission or may be viewed on the Commission's Web site at http://www.ferc.gov, using the ‘eLibrary' link. Enter the docket number excluding the last three digits in the docket number field to access the document. For assistance, contact FERCOnlineSupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION: The information is collected under the requirements of FERC-549B “Gas Pipeline Rates: Capacity Information” (OMB No. 1902-0169) which contains both the Index of Customers Report and the Capacity Report under Part 284 of the Commission's Regulations. The information is used by the Commission to implement the statutory provisions of the sections 4, 5, and 16 of the NGA, 15 U.S.C. 717c-717o, PL. 75-688,52 Stat. 822 and 830) and Title III of the NGPA, 15 U.S.C. 3301-3432, PL. 95-621.

In Order No. 636, the Commission established a capacity release mechanism under which shippers can release firm transportation and storage capacity on either a short or long term basis to other shippers wanting to obtain capacity. In Order No. 636-A, the Commission determined that the efficiency of the capacity release mechanism would be enhanced by standardizing both the content of capacity release information and the methods by which shippers access that information.

In Order No. 637, the Commission amended its regulations in response to the growing development of more competitive markets for natural gas. In the rule, FERC revised its current regulatory framework to improve the efficiency of the market and provide captive customers with the opportunity to reduce their cost of holding long-term capacity while continuing to protect against the exercise of market power.

To create greater substitution between different forms of capacity and enhance competition across the pipeline grid, Order No. 637 also revised the regulations regarding scheduling, segmentation and flexible point rights, penalties, and reporting requirements. FERC revised pipeline scheduling procedures so that capacity release transactions can be better coordinated with the nomination process. Pipelines are required to permit shippers to segment capacity whenever feasible, which increases potential capacity alternatives and helps to facilitate the development of market centers. The changes to the reporting requirements were to provide greater reliability about capacity availability and price data that shippers need to make informed decisions in a competitive market as well as improve shipper's and FERC's availability to monitor marketplace behavior to detect, and remedy anticompetitive behavior.

In Order No. 582, the Commission created the Index of Customers filing requirement. Pipelines are required to identify all firm transportation services and contract demand for each customer for each rate schedule. Pipelines must file on the first business day of each calendar quarter and also post the information on their Internet Web sites. These filings include the following data elements: shipper's name (full legal name), contract identifier, rate schedule, contract start date, contract end date, contract quantity, receipt points, delivery points, information on capacity held by rate zones to permit verification of reservation billing determinants, data to assess storage capacity and conjunctions restrictions if any (provisions that operate across multiple points or contracts and may limit a shipper's rights at a particular receipt or delivery point). The index contains fundamental data about the natural gas industry—how much of the pipeline's capacity, shippers have under contract. With this information, the Commission remains apprised of trends in the industry, the willingness of shippers to hold firm capacity, the average length of time capacity remains under contract, the proportion of capacity rolling over under specific provisions. This information provides the Commission with the ability to analyze capacity held on pipelines and provides capacity information to the market which aids the capacity release system by enabling shippers to locate those holding capacity rights that shippers may want to acquire. The information filed with the Commission is mandatory. The Commission implements these filing requirements in the Code of Federal Regulations (CFR) under 18 CFR Part 284.12 and 13.

Action: The Commission is requesting reinstatement and a three-year approval of these reporting requirements, with no changes to the existing collection of data.

Burden Statement: Public reporting burden for this collection is estimated as:

Number of respondents annually: (1) | Number of responses per respondent *: (2) | Average burden hours per response: (3) | Total annual burden hours: (1)×(2)×(3)
100 (Index of Customers) 100 | 5.66 (6) | 290.9 hours (3) | 297,201 hours # (1,800 hours)
* Estimated total number of responses per year = 478.95.
# Includes Index of Customers.

Estimated cost burden to respondents: 297,201 hours/2,080 hours per year × $107,185 per year = $15,315,139. The cost per respondent is equal to $153,151.

The reporting burden includes the total time, effort, or financial resources expended to generate, maintain, retain, disclose, or provide the information including:

(1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond.

Magalie R. Salas,
Secretary.

[FR Doc. E4-727 Filed 3-31-04; 8:45 am]

BILLING CODE 6717-01-P